FEDERAL MARITIME COMMISSION

Ocean Transportation Intermediary License Reissuances

The Commission gives notice that the following Ocean Transportation Intermediary licenses have been reissued pursuant to section 19 of the Shipping Act of 1984 (46 U.S.C. 40101).

License No.: 016293F.

Name: Japan Express America Inc.

Address: 2203 East Carson Street, Unit A-2, Long Beach, CA 90810.

Date Reissued: June 22, 2014.

License No.: 023771F

Name: Boacon Synergy Inc.

Address: 7933 Mill Creek Circle, West Chester, OH 45069.

Date Reissued: July 6, 2013.

Sandra L. Kusumoto.
Director, Bureau of Certification and Licensing.

[FR Doc. 2014-18574 Filed 8-5-14; 8:45 am]

BILLING CODE 6730-01-P